DEPARTMENT OF ENERGY

Federal Energy Regulatory Commission

[Project No. 6066-041]

McCallum Enterprises I, Limited Partnership and Shelton Canal Company; Notice Rejecting Application, Waiving Regulations, and Soliciting Applications

On March 1, 2024, McCallum Enterprises I, Limited Partnership and Shelton Canal Company (McCallum and Shelton), co-licensees for the Derby Dam Hydroelectric Project No. 6066 (project), filed an application for a new license for the project pursuant to section 15(c)(1) of the Federal Power Act (FPA). The license application was untimely filed and is hereby rejected.¹

¹ Eveready Machinery Company, Inc. was issued a major license for the project on March 25, 1986, for a term of 40 years, effective the first day of the month in which the order was issued. See Eveready Machinery Company, Inc., 34 FERC ¶ 62,578 (1986). Therefore, the license would expire on February 28, 2026, and the statutory deadline for filing a new license application was February 29, 2024. See FPA § 15(c)(1), 16 U.S.C. 808(c)(1). The Commission received the application via the internet at 12:09 a.m. Eastern Time on March 1, 2024.

The project is located on the Housatonic River in Fairfield and New Haven Counties, Connecticut. The project consists of: (a) a 23.7-foot-high, 675-foot-long dam made of concrete capped cut stone with flashboards of varying heights, ranging from 1.8-foot-high to 2.2-foot-high, and a crest elevation of 25.2 feet National Geodetic Vertical Datum of 1988 (NGVD 88); (b) a 400-foot-long earth dike with a maximum height of 10 feet, located at the east abutment and oriented in a northwest-southwest direction; (c) a reservoir (Lake Housatonic) with a normal maximum water surface elevation of 25.2 feet NGVD 88 and a usable storage capacity of 500 acre-feet; (d) a gatehouse (Derby gatehouse) and 2,135 foot-long, 40-foot-wide canal paralleling the east bank of the river; (e) a gatehouse (Shelton gatehouse) and 130-foot-long, 94-foot-wide headrace channel extending downstream from the dam; (f) a navigation lock located at the west abutment, which constitutes the first 70 feet of the Shelton canal; (g) a powerhouse (Shelton powerhouse) at the west abutment, in the existing Shelton canal and lock structure, and located approximately 130 feet downstream of the Shelton gatehouse, containing two horizontal A-C tube Kaplan turbines with two direct drive generators with a total rated capacity of 7.8 megawatts and a rated flow of 4,600 cubic feet per second; (h) a 775-foot-long, 13.8 kilovolt underwater transmission line tying into the existing United Illuminating Company system; and (i) appurtenant facilities.

As a result of the rejection of McCallum and Shelton's application and pursuant to section 16.25 of the Commission's regulations, the Commission is soliciting license applications from potential applicants. This solicitation is necessary because the deadline for filing an application for a new license and any competing license applications, pursuant to section 16.9 of the Commission's regulations, was February 29, 2024, and no other license applications for this project were filed. With this notice, we are waiving those parts of section 16.24(a) and 16.25(a) which bar an existing licensee that missed the two-year application filing deadline from filing another application. Further, because McCallum and Shelton completed the consultation requirements pursuant to Part 4 of the Commission's regulations, we are waiving the consultation requirements in section 16.8 for the existing licensees. Consequently, McCallum and Shelton will be allowed to refile a license application and compete for the license, and the incumbent preference established by the FPA section 15(a)(2) will apply.²

² See Pacific Gas and Electric Co., 98 FERC ¶ 61,032 (2002), reh'g denied, 99 FERC ¶ 61,045 (2002), aff'd, City of Fremont v. FERC, 336 F.3d 910 (9th Cir. 2003).

The licensees are required to make available certain information described in section 16.7 of the regulations. For more information from the licensees, please contact Mr. Joseph W. Szarmach Jr., Managing Partner, McCallum Enterprises I Limited Partnership, 2874 Main Street, Stratford, Connecticut 06614, (203) 386-1745.

Pursuant to section 16.25(b), a potential applicant that files a notice of intent within 90 days from the date of this notice: (1) may apply for a license under Part I of the FPA and Part 4 (except section 4.38) of the Commission's regulations within 18 months of the date on which it files its notice; and (2) must comply with sections 16.8 and 16.10 of the Commission's regulations.

Questions concerning this notice should be directed to Brandi Welch-Acosta, (202) 502-8964 or Brandi.Welch-Acosta@ferc.gov.

Dated: March 26, 2024.
Debbie-Anne A. Reese,
Acting Secretary.

[FR Doc. 2024-06871 Filed 4-1-24; 8:45 am]

BILLING CODE 6717-01-P